DEPARTMENT OF JUSTICE

Antitrust Division

Notice Pursuant to the National Cooperative Research and Production Act of 1993—National Biodiesel Accreditation Commission

Notice is hereby given that, on May 21, 2015, pursuant to section 6(a) of the National Cooperative Research and Production Act of 1993, 15 U.S.C. 4301 et seq. (“the Act”), National Biodiesel Accreditation Commission (“NBAC”) has filed written notifications simultaneously with the Attorney General and the Federal Trade Commission disclosing additions or changes to its standards development activities. The notifications were filed for the purpose of extending the Act's provisions limiting the recovery of antitrust plaintiffs to actual damages under specified circumstances. Specifically, the NBAC has adopted an additional BQ-9000 standard which adds retailers to supplement the BQ-9000 standards applicable to other sectors. The Retailer Standard includes both Program Requirements and Policy Regulations. The purpose of the Program Requirements is to require member retailers to (1) receive and maintain products that meet ASTM standards; (2) utilize specific procedures for blending and distributing biodiesel; and (3) conform to best practices for quality assurance and corrective action. The Program Requirements require retailers to comply with specific documentation requirements; engage in an internal quality management procedure that includes internal audits, quality assurance meetings, and performance reports; comply with best practices for managing internal and external laboratories; comply with specific purchase options when receiving biodiesel blends and other guidelines applicable to the receipt of biodiesel products; engage in sampling and testing to verify the quality of the blend; and develop remedial practices to prevent and correct nonconforming products. The Policy Regulations requires retailers to undergo a specific certification process; comply with surveillance audit requirements during recertification; and abide by the Commission's decision-making procedure and guidelines for shutdowns.

On August 27, 2004, NBAC filed its original notification pursuant to section 6(a) of the Act. The Department of Justice published a notice in the Federal Register pursuant to section 6(b) of the Act on October 4, 2004 (69 FR 59269).

The last notification was filed with the Department on April 14, 2011. A notice was published in the Federal Register pursuant to section 6(b) of the Act on May 11, 2011 (76 FR 27351).

Patricia A. Brink,
Director of Civil Enforcement, Antitrust Division.

[FR Doc. 2015-15563 Filed 6-24-15; 8:45 am]

BILLING CODE P